ENVIRONMENTAL PROTECTION AGENCY

40 CFR Part 63

[OAR-2003-0193; FRL-7948-5]

RIN 2060-AL91

National Emission Standards for Hazardous Air Pollutants: Cellulose Products Manufacturing

AGENCY: Environmental Protection Agency (EPA).

ACTION: Direct final rule; amendments.

SUMMARY: The EPA is taking direct final action on amendments to the national emission standards for hazardous air pollutants (NESHAP) for cellulose products manufacturing, which were issued on June 11, 2002, under section 112 of the Clean Air Act (CAA). The amendments revise the work practice standards, general and initial compliance requirements, definitions, and General Provisions applicability, as well as correct typographical, formatting, and cross-referencing errors in the final rule. We are issuing the amendments as a direct final rule, without prior proposal, because we view the amendments as noncontroversial and anticipate no adverse comments. However, in the Proposed Rules section of this Federal Register, we are publishing a separate document that will serve as the proposal to amend the NESHAP for cellulose products manufacturing if adverse comments are filed.

DATES: The direct final rule is effective on October 11, 2005, unless EPA receives adverse comments by September 9, 2005, or by September 26, 2005, if a hearing is requested by August 22, 2005. If adverse comments are received, EPA will publish a timely withdrawal in the Federal Register indicating which sections will become effective, and which provisions are being withdrawn due to adverse comment. If anyone contacts the EPA requesting to speak at a public hearing, a public hearing will be held on August 24, 2005.

ADDRESSES: Submit your comments, identified by Docket ID No. OAR-2003-0193, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: air-and-r-docket@epa.gov.

• Fax: (202) 566-1741.

• Mail: EPA Docket Center, EPA, Mailcode: 6102T, 1200 Pennsylvania Avenue, NW., Washington, DC 20460. Please include a duplicate copy, if possible.

• Hand Delivery: Air and Radiation Docket, EPA, 1301 Constitution Avenue, NW., Room B-108, Washington, DC 20460. Such deliveries are only accepted during the Docket's normal hours of operation, and special arrangements should be made for deliveries of boxed information.

We request that a separate copy also be sent to the contact person listed below (see FOR FURTHER INFORMATION CONTACT).

Instructions. Direct your comments to Docket ID No. OAR-2003-0193. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket. All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hardcopy at the Air and Radiation Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

Public Hearing. If a public hearing is held, it will be held at 10 a.m. at the EPA's Environmental Research Center Auditorium, Research Triangle Park, North Carolina or at an alternate site nearby.

FOR FURTHER INFORMATION CONTACT: Mr. Bill Schrock, Organic Chemicals Group, Emission Standards Division (C504-04), Office of Air Quality Planning and Standards, U.S. EPA, Research Triangle Park, North Carolina 27711, telephone number (919) 541-5032, facsimile number (919) 541-3470, electronic mail (e-mail) address schrock.bill@epa.gov.

SUPPLEMENTARY INFORMATION: Regulated Entities. Categories and entities potentially regulated by this action include those listed in the following table:

Category | NAICS code* | Examples of regulated entities
Industry | 326121 | cellulose food casing operations.
| 325221 | rayon operations.
| 326199, 325211 | cellulosic sponge operations.
| 326199 | cellophane operations.
| 325199 | cellulose ether operations.
Federal Government |  | Not affected.
State/local/tribal government |  | Not affected.
* North American Industrial Classification System.

This table is not intended to be exhaustive, but rather provides a guide for readers regarding entities likely to be regulated by this action. To determine whether your facility is regulated by this action, you should carefully examine the applicability criteria in § 63.5485 of the national emission standards. If you have questions regarding the applicability of this action to a particular entity, consult the person listed in the preceding FOR FURTHER INFORMATION CONTACT section of this document.

Public Hearing. Persons interested in presenting oral testimony or inquiring as to whether a hearing is to be held should contact Mr. Bill Schrock, Organic Chemicals Group, Emission Standards Division (Mail Code C504-05), U.S. EPA, Research Triangle Park, North Carolina 27711, telephone number (919) 541-5605, electronic mail address schrock.bill@epa.gov., at least 2 days in advance of the potential date of the public hearing. Persons interested in attending the public hearing must also call Mr. Bill Schrock to verify the time, date, and location of the hearing. The public hearing will provide interested parties the opportunity to present data, views, or arguments concerning these proposed emission standards.

Worldwide Web (WWW). In addition to being available in the docket, an electronic copy of today's document will also be available on the WWW through EPA's Technology Transfer Network (TTN). Following signature by the EPA Administrator, a copy of this action will be posted on the TTN's policy and guidance page for newly proposed or promulgated rules at http://www.epa.gov/ttn/oarpg. The TTN provides information and technology exchange in various areas of air pollution control.

Comments. We are publishing the direct final rule amendments without prior proposal because we view the amendments as noncontroversial and do not anticipate adverse comments. However, in the Proposed Rules section of this Federal Register, we are publishing a separate document that will serve as the proposal to amend the national emission standards for cellulose products manufacturing operations if adverse comments are filed. If we receive any adverse comments on one or more distinct amendments, we will publish a timely withdrawal in the Federal Register informing the public which provisions will become effective, and which provisions are being withdrawn due to adverse comment. We will address all public comments in a subsequent final rule, should the Agency determine to issue one. Any of the distinct amendments in today's direct final rule for which we do not receive adverse comment will become effective on the previously mentioned date. We will not institute a second comment period on the direct final rule amendments. Any parties interested in commenting must do so at this time.

Judicial Review. Under section 307(b)(1) of the CAA, judicial review of the direct final rule amendments is available only by filing a petition for review in the U.S. Court of Appeals for the District of Columbia Circuit by October 11, 2005. Under section 307(d)(7)(B) of the CAA, only an objection to the direct final rule amendments which was raised with reasonable specificity during the period for public comment can be raised during judicial review. Moreover, under section 307(b)(2) of the CAA, the requirements established by the direct final rule amendments may not be challenged separately in any civil or criminal proceedings brought by EPA to enforce these requirements.

Outline. The following outline is provided to aid in reading the preamble to the direct final rule.

I. Background

A. Work Practice Standards

B. General Compliance Requirements

C. Initial Compliance Requirements

D. Definitions

E. Applicability of General Provisions

F. Miscellaneous Corrections

II. Summary of Amendments

III. Statutory and Executive Order Reviews

A. Executive Order 12866: Regulatory Planning and Review

B. Paperwork Reduction Act

C. Regulatory Flexibility Act

D. Unfunded Mandates Reform Act of 1995

E. Executive Order 13132: Federalism

F. Executive Order 13175: Consultation and Coordination with Indian Tribal Governments

G. Executive Order 13045: Protection of Children from Environmental Health Risks and Safety Risks

H. Executive Order 13211: Actions Concerning Regulations that Significantly Affect Energy Supply, Distribution, or Use

I. National Technology Transfer and Advancement Act

J. Congressional Review Act

I. Background

The EPA, under section 112 of the CAA, promulgated the NESHAP for cellulose products manufacturing on June 11, 2002 (67 FR 40044). The final rule, codified at 40 CFR part 63, subpart UUUU, includes emission limits, operating limits, and work practice standards, as well as general, initial, and continuous compliance requirements and notification, reporting, and recordkeeping requirements. Following promulgation of the rule, UCB Films, Inc. and Teepak, LLC petitioned the Agency for specific changes to the final rule, and Dow Chemical Co. informally requested that we issue specific amendments to the final rule.

In response to industry's requests, today's action issues amendments to subpart UUUU of 40 CFR part 63 to revise the work practice standards, general and initial compliance requirements, definitions, and General Provisions applicability. The amendments also include corrections of typographical, formatting, and cross-referencing errors identified after the final rule was published. The amendments are described below.

A. Work-Practice Standards

The cellophane operation at the UCB Films facility in Tecumseh, Kansas includes a number of casting machines, each of which includes concentrated sulfuric acid baths referred to as “A-tanks.” Above the A-tanks are retractable hoods that can be moved up or down. To capture emissions, the hoods over the A-tanks are moved into the down position, and the vent streams from the A-tanks are routed to a thermal oxidizer. For operational purposes, the hoods over the A-tanks are at times kept in the up position, and during those times the vent streams from the A-tanks are diverted to the stack. UCB Films has asked whether the provision in the final rule requiring vent streams at cellophane operations to be routed through closed-vent systems to control devices possibly could be construed to apply to these A-tank hoods and, therefore, could require UCB Films to operate its casting machines with the A-tank hoods in the down position at all times.

The cellophane operation at the UCB Films facility is the only one currently operating in the U.S. Consequently, the maximum achievable control technology (MACT) floor for cellophane operations was established based on the current emission limitation at the UCB Films facility. This MACT floor accounted for the A-tank hoods at the UCB Films facility at times being kept in the up position. Consequently, the closed-vent system requirement, as currently stated, would be inconsistent with MACT for cellophane operations. Therefore, through the amendments to the final rule, we are now making clear that we did not intend for the closed-vent system provision to apply to retractable hoods over sulfuric acid baths at a cellophane operation, such as the A-tank hoods at the UCB Films facility. The final rule does not prohibit UCB Films from operating its casting machines with the A-tank hoods in the up position.

B. General Compliance Requirements

In response to comments on the proposed rule, we changed the deadline for completing a performance test or other initial compliance demonstration from 180 days before to 180 days after the compliance date. To ensure that a record of compliance would be kept between the compliance date and the date when operating limits for the continuous monitoring systems (CMS) are established (i.e., the date of the performance test or other initial compliance demonstration), we included a provision in § 63.5515(b)(1) of the final rule that requires affected sources to maintain an operation and maintenance (O&M) log of the process and emissions control equipment during that period.

Dow has requested that we limit the O&M log to emission control equipment because the amount and type of data associated with operation and maintenance of the process are unclear and onerous. For example, with the current text in the final rule, companies would be required to document when a pump used to inject water treatment chemicals into boiler feedwater for steam generation was replaced or repaired. Plant operators would be required to record literally thousands of data points related to the operation of “any” aspect of the production unit, even though it would have no bearing on emissions or the compliance parameters required by the final rule. According to Dow, this broad scope was certain to be inconsistently applied, and it would be difficult, if not impossible, to demonstrate compliance.

Dow has also requested that we clarify that the O&M log requirement is needed only for those control devices used to comply with the standard, not every control device unassociated with the scope of the final rule. Some control devices may be installed for odor or State requirements and do not need to be included in the O&M log. For example, one of Dow's cellulose ether facilities has a scrubber that, under a State permit, is used to control non-hazardous air pollutants emissions, and the facility does not need to monitor or conduct a performance test on this scrubber in order to comply with the final rule. According to Dow, with the current text in the final rule, the facility would have to maintain data on the scrubber for no other purpose than that stated in § 63.5515(b)(1).

Consequently, Dow has recommended that EPA revise § 63.5515(b)(1) to replace the term “process and emissions control equipment” with the term “control technique used to comply with the rule.” Dow has recommended using the term “control technique” rather than “emissions control equipment” because “control technique” is defined in § 63.5610 of the final rule. Dow believes that this revision would clarify the requirement and strike a more appropriate balance without being unnecessarily burdensome. The Agency agrees with the rationale provided by Dow that a more narrow definition for items to be contained in the O&M log is appropriate. Therefore, through the amendments to the final rule, we are making the suggested revision to § 63.5515(b)(1).

C. Initial Compliance Requirements

1. Material Balance Compliance Option

One of Dow's cellulose ether facilities uses a material balance to calculate the amount of HAP reacted, i.e., destroyed in the process. According to Dow, this facility's demonstration of overall control efficiency is similar to the viscose process material balance. Dow has requested that EPA provide cellulose ether affected sources with a material balance compliance option similar to that for the viscose process affected sources. This option would allow the cellulose ether affected sources to demonstrate initial compliance using a month-long initial compliance demonstration and demonstrate continuous compliance by maintaining a material balance and using it to document the percent reduction of total organic hazardous air pollutants (HAP) emissions. The Agency was unaware that any cellulose ether facilities were using the material balance technique to calculate their control efficiency and, therefore, did not provide this as a compliance option for cellulose ether facilities in the final rule. We consider this a valid approach for calculating control efficiency and extending this option to the cellulose ether affected sources makes the final rule consistent with the viscose process affected sources. Therefore, through the amendments to the final rule, we are providing the requested material balance compliance option for cellulose ether operations, with the clarification that the start point from which the percent reduction is determined must be the onset of extended cookout. Extended cookout is a means of reducing HAP emissions by allowing the reaction to occur for a longer period of time than economically desired, thus allowing for more of the HAP to be consumed in the reaction. This clarification that the start point for the material balance compliance option is necessary because cellulose ether affected sources actually consume much of the HAP in their reaction (e.g., ethylene oxide), while viscose process affected sources eventually regenerate all of the HAP in their reaction (as either carbon disulfide or hydrogen sulfide).

2. Additional Testing

Tables 3 and 5 to the final rule require viscose process affected sources to prepare and maintain a material balance that includes the “pertinent data” used to determine the percent reduction of total sulfide emissions. To prepare and maintain such a material balance, emissions information to determine control efficiency would be needed in addition to that gathered through the initial performance test. According to Teepak, the “pertinent data” language in the final rule possibly could be construed to require additional testing to complete the material balance, although such additional testing is not explicitly required in the final rule and would be inconsistent with language in the preamble. Teepak has recommended that EPA revise § 63.5535(g)(1) to clarify that no additional emission tests are required. The Agency did not intend to require additional emissions tests be conducted by use of the term “pertinent data” and agrees with Teepak's request. Therefore, through the amendments to the final rule, we are making the suggested revision to § 63.5535(g)(1) for viscose process affected sources. For consistency, we are providing the same clarification for those cellulose ether affected sources that choose the material balance compliance option.

3. Batch Emission Episodes

For those sources that choose to conduct an initial performance test, Dow has noted that the final rule does not address the testing of batch emission episodes lasting less than 1 hour. According to Dow, the final rule is unclear and has conflicting requirements between the regulatory text and tables regarding whether (1) the batch emission episode provisions in § 63.490(c) apply to calculating the emission rate, as stated in table 4 to the final rule, (2) three 1-hour tests are required, as stated in § 63.5535(d), or (3) a 3-hour test is required, as stated in table 3 to the final rule. Dow has recommended that EPA clarify in § 63.5535(d) and (e) that batch process vent tests follow the provisions listed in table 4 and § 63.490(c), which Dow has interpreted as allowing testing on a batch emission episode. Upon review of the subject testing requirements the Agency agrees with Dow's assessment that the language in the text and tables conflict and need clarification. Therefore, through the amendments to the final rule, we are making the suggested revision to § 63.5535(d) and (e). To account for the testing of batch emission episodes, which may last less than 1 hour per test run, we are also removing the “3-hour” term used in table 3 to the final rule to describe the performance test. This revision also eliminates any confusion with the requirement in § 63.5535(d) for three 1-hour test runs.

4. Uncontrolled Emissions

Both Teepak and Dow have noted that table 3 to the final rule requires operations to demonstrate initial compliance with the emission limit by “measuring” the average uncontrolled emissions during the compliance demonstration or performance test. However, the final rule does not require month-long initial performance tests, nor does it require any additional testing after the initial performance tests of control device efficiency. Teepak has recommended that EPA change the term “measured” in table 3 to the final rule to “determined” to clarify that no additional testing or measurement was intended for cellulose food casing operations or any other viscose process affected source. Dow has recommended that EPA revise tables 3 and 4 to the final rule to allow engineering assessments to be used as an alternative for determining the uncontrolled emissions from process vents. According to Dow, engineering assessments are allowed in other NESHAP, including the Hazardous Organic NESHAP (HON), the Pharmaceutical NESHAP, and the Pesticide Active Ingredient NESHAP.

The Agency agrees with Dow and Teepak that using the term “determined” instead of “measured” is consistent with the approach of using an engineering assessment as an alternative for determining uncontrolled emissions. Through the amendments to the final rule, we are making the clarification to table 3 to the final rule suggested by Teepak for viscose process affected sources. For consistency, we are providing the same clarification for those cellulose ether affected sources that choose to demonstrate initial compliance using a month-long compliance demonstration. We are also making the revision to table 3 to the final rule suggested by Dow for cellulose ether affected sources. This revision should provide cellulose ether affected sources with some flexibility in determining uncontrolled emissions, whether they are conducting an initial performance test or a month-long compliance demonstration. For consistency, we are also providing the viscose process affected sources with the same option to use engineering assessments. We are not making the revision to table 4 to the final rule suggested by Dow because this issue will already be addressed in the revision to table 3 of the final rule. Table 4 of the final rule is designed to describe the performance testing requirements, and if a source is using other means (e.g., engineering assessments) to determine uncontrolled emissions, then those means should be described in table 3 of the final rule.

5. Equations

Dow has noted that § 63.5535(e)(2) requires sources to calculate the “total sulfide emission rate.” According to Dow, it is not necessary for a source to calculate the total sulfide emission rate if it does not use sulfur compounds, specifically carbon disulfide, in its process. Dow has recommended that EPA clarify the final rule so that § 63.5535(e)(2) is used only for viscose processes that actually use carbon disulfide. Through the amendments to the final rule, we are revising § 63.5535(e) to require sources to use the equations “as applicable.” This revision should account for those sources (e.g., cellulose ether affected sources) for which an equation (e.g., total sulfide emission equation) may not apply.

6. Establishing Operating Limits

Section 63.5535(h)(1) of the final rule references § 63.505(b)(2) regarding the establishment of operating limits for continuous processes. Section 63.505(b)(2) requires sources to use the average of the maximum values to establish a maximum level and the average of the minimum values to establish a minimum level. Teepak has argued that this procedure inappropriately restricts the range in which their scrubbers can be operated to ensure compliance with the emission reduction requirements. According to Teepak, the capabilities of the scrubber under a range of conditions, not simply the average capabilities, should be used to determine maximum and minimum operating limits. Teepak has recommended that we replace the procedures of § 63.505(b)(2) with those of § 63.505(c), which require sources to establish parameter operating levels based on performance tests, supplemented by engineering assessments and/or manufacturer's recommendations. According to Teepak, this change would allow the development of true operating limits of the control or recovery device. Teepak has also recommended that we revise table 3 to the final rule to clarify that a range of scrubber operating values is acceptable.

The Agency agrees with Teepak that the use of average values to establish the minimum and maximum operating limits for the scrubbers will not result in an effective measure for assessing the operational performance of the scrubbers. By using the averages for establishing both the minimum and maximum values for the scrubber operating range, an overly restrictive range is set, while the scrubbers can be demonstrated to operate effectively operate over a much broader range. Therefore, through the amendments to the final rule, we are making the suggested revisions to § 63.5535(h)(1), (5), and (6). We are also revising tables 2, 3, and 6 to final rule. For consistency, we are applying the requirement to use § 63.505(c) to both continuous and batch processes.

D. Definitions

1. Process Unit/Source Category

In response to a comment on the proposed rule, we added a definition for “cellulose ether process unit” to the final rule to help define the boundaries around equipment for equipment leak monitoring. We also revised the definition for “cellulose ether operation” to provide greater clarification of what it includes, and we revised the definition for “cellulose ether process” to specifically exclude solids handling. However, the requirements in the final rule refer only to the definitions for “cellulose ether operation” and “cellulose ether process unit,” which do not exclude solids handling equipment. Dow has argued that, without clear definitions, the regulated industry cannot delineate the equipment included in the process unit and subject to the final rule. As “cellulose ether process unit” is currently defined, equipment in the solids handling process would be a part of the cellulose ether process unit and would be subject to the equipment leak provisions. According to Dow, it is doubtful that the HAP concentration in the solids handling equipment would exceed 5 percent, and unnecessary records would be needed to document that the equipment is not monitored. Dow has recommended that EPA revise the definition for “cellulose ether process unit” to specifically include the term “cellulose ether process.” According to Dow, revising this definition would be a clear and simple approach to exclude equipment not a part of the cellulose ether process unit and, therefore, not subject to equipment leaks monitoring. Dow has also recommended that EPA revise the definition for “Cellulose Ethers Production source category” to refer to “the collection of cellulose ether operations” to provide a similar clarification.

The Agency agrees with Dow that revising the definitions will provide clarity and consistency to what equipment is subject to the equipment leak monitoring. Additionally, based on a review of the information presented to EPA during the initial development of these provisions the solids handling equipment is unlikely to exceed the 5 percent HAP threshold and, as the rule is currently written, unnecessary records would need to be kept. Through the amendments to the final rule, we are making the suggested revisions to the definitions for “cellulose ether process unit” and “Cellulose Ethers Production source category.” For consistency, we are also revising several other definitions. We are revising the definitions for “cellulose food casing process unit,” “cellulosic sponge process unit,” and “rayon process unit” to specifically include the term “viscose process.” We are revising the definition for “cellophane process unit” to specifically include the terms “viscose process” and “solvent coating process.” Finally, we are revising the definition for “Miscellaneous Viscose Processes source category” to specifically include the collection of “cellulose food casing, rayon, cellulosic sponge, and cellophane operations.”

Dow has also recommended that EPA revise the tables in the final rule to refer to the definition for “cellulose ether process unit” instead of “cellulose ether operation.” According to Dow, this change would allow EPA to clearly define the equipment subject to control. Specifically, Dow believes that EPA needs to define the boundaries of the process unit to determine where a wastewater process stream is discarded and, thus, becomes a wastewater. According to Dow, with the broadly defined term “cellulose ether operation,” no stream ever exits the process and becomes discarded.

We do not believe that replacing the term “cellulose ether operation” with “cellulose ether process unit” in the tables is necessary or even desirable. Such a revision would effectively exclude from regulation those equipment, such as heat exchanger systems, wastewater and waste management units, and cooling towers, that are not associated with the cellulose ether process unit but are located at a cellulose ether operation. Additionally, these sources were considered in establishing the MACT floor. Consequently, we are not making this suggested revision to the final rule.

2. Process Vent

In response to a comment on the proposed rule, we revised the definition of “process vent” in the final rule to refer to “a point of discharge to the atmosphere * * * of a HAP-containing gas stream from the process operation.” Noting that the term “process operation” is not defined in the final rule, Dow has recommended that EPA replace it with the term “unit operation.” According to Dow, the term “unit operation” is already defined in the final rule because § 63.5610 references the definitions from § 63.101 of the HON. Dow has also expressed concern that the definition for “process vent” in the final rule does not define the basis for the concentration of a process vent, e.g., HAP or total organic compound (TOC). Consequently, Dow has recommended that EPA revise the definition for “process vent” to state that it does not include ”* * * vents with * * * a concentration less than 50 parts per million by volume (ppmv) of HAP or TOC * * *” EPA agrees with Dow's comment concerning the definition of process vent. Specifically, we agree that through the reference to § 63.101 of the HON and our definition of “process vent” we have created an inconsistency in the rule. To correct this inconsistency we are incorporating the characteristics of the vent stream from the HON into our process vent definition. Through the amendments to the final rule, we are making the suggested clarifications to the definition for “process vent.”

E. Applicability of General Provisions

Facilities subject to the final rule are required to submit periodic compliance reports containing, among other things, information on episodes of startup, shutdown, or malfunction that occurred during each reporting period. UCB Films has asked whether the routine breaks of film (commonly called “wet breaks”) that occur in its casting machines possibly could be construed as falling within the definition for “malfunction.” The wet breaks would not affect UCB's ability to meet the standards. We do not consider this type of routine event to fall within the definition for “malfunction” and believe it should not be included within the reporting requirement. See 67 FR 72875, 72881 (December 9, 2002); 68 FR 32586, 32592-32593 (May 30, 2003). For consistency, this interpretation also applies to routine breaks of cellulose food casing and rayon.

UCB Films also requested clarification of the reporting obligations for its casting machines when they are temporarily turned off to fix wet breaks. Clarification may also be needed, according to UCB Films, regarding the subsequent restart of the casting machines after the wet breaks are fixed. The recent revisions to the 40 CFR part 63 General Provisions state that there is no duty to report the number or duration of these events or to describe each one individually in the startup, shutdown, and malfunction report as long as the provisions of the startup, shutdown, and malfunction plan are followed and the report contains a statement to that effect; see § 63.10(d)(5)(i) and 68 FR 32592. No changes to subpart UUUU of 40 CFR part 63 are needed to address this issue.

F. Miscellaneous Corrections

Through the amendments to the final rule, we are also correcting various typographical, formatting, and cross-referencing errors found in the final rule and updating the cross-references, where necessary, to include the amended sections.

II. Summary of Amendments

Today's amendments to subpart UUUU are described in Table 1 of this preamble.

Table 1.—Summary of Amendments to Subpart UUUU of 40 CFR Part 63
Citation | Change
§ 63.5490(d) | Change “meet” to “met” for verb tense consistency.
§ 63.5515(b)(1) and (f) introductory paragraph | Remove the requirement in paragraph (b)(1) to maintain a log for O&M of process equipment and state that the O&M log is only required for control devices used to comply with the rule.
| Replace the phrase “to of this subpart” in (f) introductory paragraph with “to this subpart.”
§ 63.5535 (d), (e) introductory paragraph, (g)(1), and (h) | Revise paragraph (d) to reference § 63.490(c) for batch process vents.
| Revise (e) introductory paragraph to reference § 63.490(c) for batch process vents. Also note that sources must use the equations as applicable.
| Revise paragraph (g)(1) to specify that no additional testing is required for viscose process affected sources required to conduct an initial performance test to determine the control efficiency of their non-recovery control devices.
| Replace references to § 63.505(b) (2) and (3) in paragraphs (h) (1) and (2) with references to § 63.505(c) for procedures used to establish operating limits. Combine paragraphs (h) (1) and (2) to apply to both continuous and batch processes. Renumber paragraphs (h) (3) through (10) as paragraphs (h) (2) through (9).
| Revise paragraphs (h) (5) and (6) to require affected sources to record the range of scrubber parameter values, rather than the average.
| Renumber paragraph (h) as paragraph (i) and add a new paragraph (h) that includes an initial compliance option for cellulose ether operations similar to the material balance option for the viscose process affected sources. For cellulose ether operations using extended cookout under this option, specify that the start point from which the percent reduction is determined must be the onset of extended cookout. Also specify that no additional testing is required for cellulose ether affected sources required to conduct an initial performance test to determine the control efficiency of their non-recovery control devices.
§ 63.5545(e)(4) | Change the citation, which describes the data to be excluded from continuous emissions monitoring system (CEMS) data averages, from paragraph (a)(5) to paragraph (e)(5) of this section.
§ 63.5610 (a) and (g) | Revise paragraph (a) by changing the citation for operating limit provisions from § 63.505(b) to § 63.505(c).
| Revise the definitions of “Cellulose Ethers Production source category” and “Miscellaneous Viscose Processes source category” in paragraph (g) to include a reference to the types of operations that are included in the source categories (cellulose ether, cellophane, cellulose food casing, cellulosic sponge, and rayon).
| Revise the definition of “cellulose ether process unit” in paragraph (g) to include the term “cellulose ether process.” Revise the definitions of “cellulose food casing process unit,” “cellulosic sponge process unit,” and “rayon process unit” to include the term “viscose process.” Revise the definition of “cellophane process unit” to include the terms “viscose process” and “solvent coating process.”
| Revise the definition of “process vent” in paragraph (g)to replace the undefined term “process operation” with the defined term “unit operation” and to define the concentration basis for process vents as HAP or TOC.
Table 1, items 1.c. i and ii, 1.f. ii and iii, 9, 10, and 11 | Remove the numbering for individual requirements under items 1.c. i and ii. Revise items 1.f. ii and iii, item 10, and item 11 to clarify that the standards for closed-vent systems at cellophane operations do not apply to retractable hoods over sulfuric acid baths at a cellophane operation.
| Revise item 9 to replace the phrase “liquid streams in open system 2” with “liquid streams in open systems.”
| Designate the affected source text under item 11 as “a.”
Table 2, items 3 and 4 | Revise items 3 and 4 to require affected sources to maintain the scrubber parameters within a range of values established during the compliance demonstration, rather than above or below an average value.
Table 3, introductory statement and items 1.a.i. (1) and (2); 1.b.i. (1) and (2); 1.c.i.(1); 1.c.ii.(1); 1.d.i.(1); 1.e.i.(1); 1.f.i.(1); 1.f.ii and 2.a.i.(1); 3.a; 6.a.i.(1); and 12.a.i.(2) | Revise the introductory statement for Table 3 to include § 63.5535(h) in the list of referenced provisions. Regarding the requirement in items 1.a.i.(1), 1.b.i.(1), 1.c.i.(1), 1.c.ii.(1), 1.d.i.(1), 1.e.i.(1), 1.f.i.(1), 2.a.i.(1), 3.a, and 6.a.i.(1) to “measure” average uncontrolled emissions during the month-long compliance demonstration, change “measured” to “determined.” Provide sources with the option to use engineering assessments to determine uncontrolled emissions.
| Revise items 1.a.i.(2) and 1.b.i.(2) to replace the term “average operating parameter values” with “range of operating parameter values.”
| Revise items 1.f. ii and iii to clarify that the standards and initial compliance requirements for closed-vent systems at cellophane operations do not apply to retractable hoods over sulfuric acid baths at a cellophane operation.
| Revise item 2.a.i to change “folling” to “rolling.”
| Split item 3.a. into two parts—items 3.a and 3.b. Item 3.a applies to cellulose ether operations using a performance test to demonstrate initial compliance. Item 3.b applies to cellulose ether operations using a material balance compliance demonstration to demonstrate initial compliance. Include under item 3.b the requirements associated with the material balance compliance demonstration. Include under items 3.a and 3.b the option to use engineering assessments to determine uncontrolled emissions.
| Revise items 3.a.i. (1) and (2) to remove the term “3-hour.”
| Remove the numbering for individual requirements under item 12.a.i.(2).
Table 4, introductory statement and items 3 and 4.a.i.(2).(b) | Revise the introductory statement for Table 4 to include § 63.5535(h)(1) in the list of referenced provisions. Reposition the requirements for item 3 into their proper columns. Correct the misspelling for “potentially” in item 4.a.i.(2).(b).
Table 5, items 1.a. ii and iii; 3.a; 5.a. i, ii, and iv; and 8 | Revise items 1.a. ii and iii to clarify that the standards and continuous compliance requirements for closed-vent systems do not apply to retractable hoods over sulfuric acid baths at a cellophane operation.
| Under item 1.a.ii, designate the work practice standard for closed-vent systems as “iii,” instead of “c.”
| Split item 3.a. into two parts—items 3.a and 3.b. Item 3.a applies to cellulose ether operations using a performance test to demonstrate initial compliance. Item 3.b applies to cellulose ether operations using a material balance compliance demonstration to demonstrate initial compliance. Include under item 3.b the requirements associated with the material balance continuous compliance option.
| Under items 5.a. i, ii, and iv, remove the numbering for individual emission limits and standards (e.g., remove “(1),” “(2),” and “(3)”). Also, change the numbering for individual continuous compliance requirements (e.g., change “(a),” “(b),” and “(c)” to “(1),” “(2),” and “(3)”).
| Correct the misspelling for “wastewater” in item 8.
Table 6, items 3 and 4 | Revise items 3 and 4 to require affected sources to maintain the scrubber parameters within a range of values established during the compliance demonstration, rather than above or below an average value.

III. Statutory and Executive Order Reviews

A. Executive Order 12866: Regulatory Planning and Review

Under Executive Order 12866 (58 FR 5173, October 4, 1993), EPA must determine whether the regulatory action is “significant” and, therefore, subject to Office of Management and Budget (OMB) review and the requirements of the Executive Order. The Executive Order defines “significant regulatory action” as one that is likely to result in standards that may:

(1) Have an annual effect on the economy of $100 million or more or adversely affect, in a material way, the economy, a sector of the economy, productivity, competition, jobs, the environment, public health or safety, or State, local, or tribal governments or communities;

(2) Create a serious inconsistency or otherwise interfere with an action taken or planned by another agency;

(3) Materially alter the budgetary impact of entitlement, grants, user fees, or loan programs or the rights and obligations of recipients thereof; or

(4) Raise novel legal or policy issues arising out of legal mandates, the President's priorities, or the principles set forth in the Executive Order.

Pursuant to the terms of Executive Order 12866, it has been determined that the direct final rule amendments are not a “significant regulatory action” because they do not meet any of the above criteria. Consequently, this action was not submitted to OMB for review under Executive Order 12866.

B. Paperwork Reduction Act

This action makes clarifying changes to the final rule and imposes no new information collection requirements on the industry. This action revises a work practice standard, general and initial compliance requirements, definitions, and General Provisions applicability, as well as correct typographical, formatting, and cross-referencing errors in the final rule. The OMB has previously approved the information collection requirements contained in the existing regulations under the provisions of the Paper Work Reduction Act, 44 U.S.C. 3501 et seq., and has assigned OMB control number 2060-0488 (EPA ICR No. 1974.02).

Copies of the Information Collection Request (ICR) document(s) may be obtained from Susan Auby, by mail at the Office of Environmental Information, Collection Strategies Division; U.S. EPA (2822T); 1200 Pennsylvania Ave., NW., Washington, DC 20460, by e-mail at auby.susan@epa.gov, or by calling (202) 566-1672. A copy may also be downloaded off the Internet at http://www.epa.gov/icr. Include the ICR number in any correspondence.

Burden means the total time, effort, or financial resources expended by persons to generate, maintain, retain, or disclose or provide information to or for a Federal agency. This includes the time needed to review instructions; develop, acquire, install, and utilize technology and systems for the purpose of collecting, validating, and verifying information; adjust the existing ways to comply with any previously applicable instructions and requirements; train personnel to respond to a collection of information; search existing data sources; complete and review the collection of information; and transmit or otherwise disclose the information.

An agency may not conduct or sponsor, and a person is not required to respond to, a collection of information unless it displays a currently valid OMB control number. The OMB control numbers for EPA's regulations are listed in 40 CFR part 9 and 48 CFR chapter 15.

C. Regulatory Flexibility Act

The EPA has determined that it is not necessary to prepare a regulatory flexibility analysis in connection with the direct final rule amendments.

For purposes of assessing the impacts of today's direct final rule on small entities, small entity is defined as: (1) a small business that has fewer than 1,000 employees for NAICS codes 325221, 325188, and 325199; fewer than 750 employees for NAICS code 325211; or fewer than 500 employees for NAICS codes 326121 and 326199; (2) a small governmental jurisdiction that is a government of a city, county, town, school district or special district with a population of less than 50,000; and (3) a small organization that is any not-for-profit enterprise which is independently owned and operated and is not dominant in its field.

After considering the economic impacts of today's direct final rule amendments on small entities, the EPA has concluded that this action will not have a significant impact on a substantial number of small entities. The direct final rule amendments will not impose any new requirements on small entities.

D. Unfunded Mandates Reform Act of 1995

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA's regulatory proposals with significant Federal intergovernmental mandates, and informing, educating, and advising small governments on compliance with the regulatory requirements.

The EPA has determined that the direct final rule amendments do not contain a Federal mandate that may result in expenditures of $100 million or more for State, local, and tribal governments, in aggregate, or the private sector in any 1 year, nor do the direct final rule amendments significantly or uniquely impact small governments, because the amendments contain no requirements that apply to such governments or impose obligations upon them. Thus, the requirements of the UMRA do not apply to the direct final rule amendments.

E. Executive Order 13132: Federalism

Executive Order 13132 (64 FR 43255, August 10, 1999), requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

The direct final rule amendments do not have federalism implications. The amendments will not have substantial direct effects on the States, on the relationship between the national government and the States, or on the distribution of power and responsibilities among the various levels of government, as specified in Executive Order 13132. None of the affected facilities are owned or operated by State governments. Thus, the requirements of section 6 of the Executive Order do not apply to the direct final rule amendments.

In the spirit of Executive Order 13132 and consistent with EPA policy to promote communications between the EPA, State and local governments, the EPA specifically solicits comment on the direct final rule amendments from State and local officials.

F. Executive Order 13175: Consultation and Coordination With Indian Tribal Governments

Executive Order 13175 (65 FR 67249, November 9, 2000), requires EPA to develop an accountable process to ensure “meaningful and timely input by tribal officials in the development of regulatory policies that have tribal implications.” The direct final rule amendments do not have tribal implications, as specified in Executive Order 13175, because tribal governments do not own or operate any sources subject to the amendments in the direct final rule. Thus, Executive Order 13175 does not apply to the direct final rule amendments.

G. Executive Order 13045: Protection of Children From Environmental Health Risks and Safety Risks

Executive Order 13045 (62 FR 19885, April 23, 1997) applies to any rule that EPA determines (1) is “economically significant” as defined under Executive Order 12866, and (2) the environmental health or safety risk addressed by the rule has a disproportionate effect on children. If the regulatory action meets both criteria, then EPA must evaluate the environmental health or safety effects of the planned rule on children and explain why the planned regulation is preferable to other potentially effective and reasonably feasible alternatives that EPA considered.

The EPA interprets Executive Order 13045 as applying only to regulatory actions that are based on health or safety risks, such that the analysis required under section 5-501 of the Executive Order has the potential to influence the rule. The direct final rule amendments are not subject to Executive Order 13045, because the action is based on technology performance and not on health or safety risks. Furthermore, the direct final rule amendments have been determined not to be “economically significant” as defined under Executive Order 12866.

H. Executive Order 13211: Actions Concerning Regulations That Significantly Affect Energy Supply, Distribution, or Use

The direct final rule amendments are not subject to Executive Order 13211, “Actions Concerning Regulations that Significantly Affect Energy Supply, Distribution, or Use” (66 FR 28355, May 22, 2001) because the amendments are not considered a significant regulatory action under Executive Order 12866.

I. National Technology Transfer and Advancement Act

Section 12(d) of the National Technology Transfer and Advancement Act (NTTAA) (Public Law 104-113; 15 U.S.C. 272 note) directs EPA to use voluntary consensus standards in its regulatory and procurement activities, unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. This action does not involve technical standards. Therefore, EPA did not consider the use of any voluntary consensus standards.

J. Congressional Review Act

The Congressional Review Act (5 U.S.C. 801 et seq.), as added by the Small Business Regulatory Enforcement Act of 1996, generally provides that, before a rule may take effect, the agency promulgating the rule must submit a rule report, which includes a copy of the rule, to each House of the Congress and to the Comptroller General of the United States. The EPA will submit a report containing the direct final rule amendments and other required information to the U.S. Senate, the U.S. House of Representatives, and the Comptroller General of the United States prior to publication of the direct final rule amendments in the Federal Register. The direct final rule amendments are not a “major rule” as defined by 5 U.S.C. 804(2). The direct final rule will become effective on October 11, 2005, unless adverse comments are received by September 26, 2005.

List of Subjects in 40 CFR Part 63

Environmental protection, Air pollution control, Cellulose products manufacturing, Hazardous substances, Reporting and recordkeeping requirements.

Dated: August 1, 2005.
Stephen L. Johnson,
Administrator.

For the reasons set out in the preamble, title 40, chapter I, part 63 of the Code of Federal Regulations is amended as follows:

PART 63—[AMENDED]

1. The authority citation for part 63 continues to read as follows:

Authority: 42 U.S.C. 7401 et seq.

Subpart UUUU—[Amended]

2. Section 63.5490 is amended by revising paragraph (d) to read as follows:

§ 63.5490 What parts of my plant does this subpart cover?

* * * * *

(d) An affected source is a new affected source if you began construction of the affected source after August 28, 2000 and you met the applicability criteria in § 63.5485 at the time you began construction.

* * * * *

3. Section 63.5515 is amended by revising paragraphs (b)(1) and (f) introductory text to read as follows:

§ 63.5515 What are my general requirements for complying with this subpart?

(b) * * *

(1) During the period, if any, between the compliance date specified for your affected source in § 63.5495 and the date upon which continuous monitoring systems (CMS) have been installed and validated and any applicable operating limits have been set, you must maintain a log detailing the operation and maintenance of any control technique used to comply with this subpart.

* * * * *

(f) You are not required to conduct a performance test when you use any of the units specified in paragraphs (f)(1) through (5) of this section to comply with the applicable emission limit or work practice standard in table 1 to this subpart. You are also exempt from the continuous compliance, reporting, and recordkeeping requirements specified in tables 5 through 9 to this subpart for any of these units. This exemption applies to units used as control devices or wastewater treatment units.

* * * * *

4. Section 63.5535 is amended by:

a. Revising paragraphs (d), (e) introductory text, (g)(1), and (h);

b. Redesignating paragraph (h) as paragraph (i); and

c. Adding a new paragraph (h).

The revisions and additions read as follows:

§ 63.5535 What performance tests and other procedures must I use?

* * * * *

(d) You must conduct three separate test runs for each performance test required in this section, as specified in § 63.7(e)(3). Each test run must last at least 1 hour, except as specified in § 63.490(c) for batch process vents.

(e) Except as specified in § 63.490(c) for batch process vents, you may use the equations in paragraphs (e)(1) through (3) of this section as applicable to determine the control efficiency for each performance test.

* * * * *

(g) * * *

(1) Viscose process affected sources that must use non-recovery control devices to meet the applicable emission limit in table 1 to this subpart must conduct an initial performance test of their non-recovery control devices according to the requirements in table 4 to this subpart to determine the control efficiency of their non-recovery control devices and incorporate this information in their material balance. No additional performance tests are required.

* * * * *

(h) Cellulose ether affected sources using the material balance compliance demonstration must conduct a month-long initial compliance demonstration according to the requirements in paragraphs (h)(1) through (4) of this section and table 3 to this subpart.

(1) Cellulose ether affected sources that must use non-recovery control devices to meet the applicable emission limit in table 1 to this subpart must conduct an initial performance test of their non-recovery control devices according to the requirements in table 4 to this subpart to determine the control efficiency of their non-recovery control devices and incorporate this information in their material balance. No additional performance tests are required.

(2) Cellulose ether affected sources that use recovery devices to meet the applicable emission limit in table 1 to this subpart must determine the quantity of organic HAP fed to the process and the quantity of organic HAP recovered using the recovery device and incorporate this information in their material balance.

(3) Cellulose ether affected sources that use cellulose ether process changes to meet the applicable emission limit in table 1 to this subpart must determine the quantity of organic HAP used before and after the process change and incorporate this information in their material balance. For cellulose ether affected sources that use extended cookout, the start point from which the percent reduction is determined must be the onset of extended cookout.

(4) Using the pertinent material balance information obtained according to paragraphs (h)(1) through (3) of this section, cellulose ether affected sources must calculate the monthly average percent reduction for their affected source over the month-long period of the compliance demonstration.

* * * * *

(i) During the period of each compliance demonstration, you must establish each site-specific operating limit in table 2 to this subpart that applies to you according to the requirements in paragraphs (i)(1) through (9) of this section.

(1) For continuous, batch, and combinations of continuous and batch process vents, establish your site-specific operating limit using the procedures in § 63.505(c), except that, if you demonstrate initial compliance using a month-long compliance demonstration, references to “performance test” mean “compliance demonstration” for purposes of this subpart.

(2) For condensers, record the outlet (product side) gas or condensed liquid temperature averaged over the same period as the compliance demonstration while the vent stream is routed and constituted normally. Locate the temperature sensor in a position that provides a representative temperature.

(3) For thermal oxidizers, record the firebox temperature averaged over the same period as the compliance demonstration. Locate the temperature sensor in a position that provides a representative temperature.

(4) For water scrubbers, record the range of the pressure drop and flow rate of the scrubber liquid over the same time period as the compliance demonstration while the vent stream is routed and constituted normally. Locate the pressure and flow sensors in a position that provides a representative measurement of the parameter.

(5) For caustic scrubbers, record the range of the pressure drop, flow rate of the scrubber liquid, and pH, conductivity, or alkalinity of the scrubber liquid over the same time period as the compliance demonstration while the vent stream is routed and constituted normally. Locate the pressure sensors, flow sensors, and pH, conductivity, or alkalinity sensors in positions that provide representative measurements of these parameters. Ensure the sample is properly mixed and representative of the fluid to be measured.

(6) For flares, record the presence of a pilot flame. Locate the pilot flame sensor in a position that provides an accurate and continuous determination of the presence of the pilot flame.

(7) For biofilters, record the pressure drop across the biofilter beds, inlet gas temperature, and effluent pH averaged over the same time period as the compliance demonstration while the vent stream is routed and constituted normally. Locate the pressure, temperature, and pH sensors in positions that provide representative measurement of these parameters. Ensure the sample is properly mixed and representative of the fluid to be measured.

(8) For carbon adsorbers, record the total regeneration stream mass or volumetric flow during each carbon bed regeneration cycle during the period of the compliance demonstration. Record the temperature of the carbon bed after each carbon bed regeneration cycle during the period of the compliance demonstration (and within 15 minutes of completion of any cooling cycle(s)). Record the operating time since the end of the last carbon bed regeneration cycle and the beginning of the next carbon bed regeneration cycle during the period of the compliance demonstration. Locate the temperature and flow sensors in positions that provide representative measurement of these parameters.

(9) For oil absorbers, record the flow of absorption liquid through the absorber, the temperatures of the absorption liquid before and after the steam stripper, and the steam flow through the steam stripper averaged during the same period of the compliance demonstration. Locate the temperature and flow sensors in positions that provide representative measurement of these parameters.

5. Section 63.5545 is amended by revising paragraph (e)(4) to read as follows:

§ 63.5545 What are my monitoring installation, operation, and maintenance requirements?

* * * * *

(e) * * *

(4) The CEMS data must be reduced to operating data averages computed using valid data from at least 75 percent of the hours during the averaging period. To have a valid hour of data, you must have four or more data points equally spaced over the 1-hour period (or at least two data points during an hour when calibration, quality assurance, or maintenance activities are being performed), except as specified in paragraph (e)(5) of this section.

* * * * *

6. Section 63.5610 is amended by revising paragraph (a) and the paragraph (g) definitions for cellophane process unit, cellulose ether process unit, Cellulose Ether Production source category, cellulose food casing process unit, cellulosic sponge process unit, Miscellaneous Viscose Processes source category, process vent, and rayon process unit to read as follows:

§ 63.5610 What definitions apply to this subpart?

(a) For all affected sources complying with the batch process vent testing provisions in § 63.490(c) and the operating limit provisions in § 63.505(c), the terms used in this subpart and in subpart U of this part are defined in § 63.482 and paragraph (g) of this section.

* * * * *

(g) * * *

Cellophane process unit means all equipment associated with the viscose process or solvent coating process which collectively function to manufacture cellophane and any associated storage vessels, liquid streams in open systems (as defined in § 63.149), and equipment (as defined in § 63.161) that are used in the manufacturing of cellophane.

* * * * *

Cellulose ether process unit means all equipment associated with a cellulose ether process which collectively function to manufacture a particular cellulose ether and any associated storage vessels, liquid streams in open systems (as defined in § 63.149), and equipment (as defined in § 63.161 or 63.1020) that are used in the manufacturing of a particular cellulose ether.

Cellulose Ethers Production source category means the collection of cellulose ether operations that use the cellulose ether process to manufacture a particular cellulose ether.

* * * * *

Cellulose food casing process unit means all equipment associated with the viscose process which collectively function to manufacture cellulose food casings and any associated storage vessels, liquid streams in open systems (as defined in § 63.149), and equipment (as defined in § 63.161) that are used in the manufacturing of cellulose food casings.

* * * * *

Cellulosic sponge process unit means all equipment associated with the viscose process which collectively function to manufacture cellulosic sponges and any associated storage vessels, liquid streams in open systems (as defined in § 63.149), and equipment (as defined in § 63.161) that are used in the manufacturing of cellulosic sponges.

* * * * *

Miscellaneous Viscose Processes source category means the collection of cellulose food casing, rayon, cellulosic sponge, and cellophane operations that use the viscose process to manufacture a particular cellulose product. These cellulose products include cellulose food casings, rayon, cellulosic sponges, and cellophane.

* * * * *

Process vent means a point of discharge to the atmosphere (or the point of entry into a control device, if any) of a HAP-containing gas stream from the unit operation. Process vents do not include vents with a flow rate less than 0.005 standard cubic meter per minute or with a concentration less than 50 parts per million by volume (ppmv) of HAP or TOC, vents on storage tanks, vents on wastewater emission sources, or pieces of equipment regulated under equipment leak standards.

* * * * *

Rayon process unit means all equipment associated with the viscose process which collectively function to manufacture rayon and any associated storage vessels, liquid streams in open systems (as defined in § 63.149), and equipment (as defined in § 63.161) that are used in the manufacturing of rayon.

* * * * *

7. Table 1 is amended by revising entries 1.c.i and ii, 1.f.ii and iii, and 9 through 11 to read as follows:

Table 1 to Subpart UUUU of Part 63—Emission Limits and Work Practice Standards
* * * * * * *
For . . . | at . . . | You must . . .
* * * * * * *
1. the sum of all viscose process vents | c. each existing rayon operation | i. reduce total uncontrolled sulfide emissions (reported as carbon disulfide) by at least 35% within 3 years after the effective date based on a 6-month rolling average; for each vent stream that you control using a control device, route the vent stream through a closed-vent system to the control device; and comply with the work practice standard for closed-vent systems; and ii. reduce total uncontrolled sulfide emissions (reported as carbon disulfide) by at least 40% within 8 years after the effective date based on a 6-month rolling average; for each vent stream that you control using a control device, route the vent stream through a closed-vent system to the control device; and comply with the work practice standard for closed-vent systems.
* * * * * * *
| f. each existing or new cellophane operation | i. * * * ii. for each vent stream that you control using a control device (except for retractable hoods over sulfuric acid baths at a cellophane operation), route the vent stream through a closed-vent system to the control device; and iii. comply with the work practice standard for closed-vent systems (except for retractable hoods over sulfuric acid baths at a cellophane operation).
* * * * * * *
9. liquid streams in open systems | each existing or new cellulose ether operation | comply with the applicable provisions or § 63.149, except that references to “chemical manufacturing process unit” ether means “cellulose ether process unit” for the purposes of this subpart.
10. closed-vent system used to route emissions to a control device | each existing or new affected source (except for retractable hoods over sulfuric acid baths at a cellophane operation) | conduct annual inspections, repair leaks, and maintain records as specified in § 63.148.
11. closed-vent system containing a bypass line that could divert a vent stream away from a control device, except for equipment needed for safety purposes (described in § 63.148(f)(3) | a. each existing or new affected source (except for retractable hoods over sulfuric acid baths at a cellophane operation) | (i) install, calibrate, maintain, and operate a flow indicator as specified in § 63.148(f)(1); or (ii) secure the bypass line valve in the closed position with a car-seal or lock-and-key type configuration and inspect the seal or closure mechanism at least once per month as specified in § 63.148(f)(2)).
* * * * * * *

8. Table 2 is amended by revising entries 3 and 4 to read as follows:

Table 2 to Subpart UUUU of Part 63—Operating Limits
* * * * * * *
For the following control technique . . . | You must . . .
* * * * * * *
3. water scrubber | maintain the daily average scrubber pressure drop and scrubber liquid flow rate within the range of values established during the compliance demonstration.
4. caustic scrubber | maintain the daily average scrubber pressure drop, scrubber liquid flow rate, and scrubber liquid pH, conductivity, or alkalinity within the range of values established during the compliance demonstration.
* * * * * * *

9. Table 3 is amended by:

a. Revising the introductory statement;

b. Revising entries 1.a.i.(1) and (2), 1.b.i.(1) and (2), 1.c.i.(1), 1.c.ii.(1), 1.d.i.(1), 1.e.i.(1), 1.f.i.(1), and 1.f.ii and iii;

c. Revising entries 2.a.i and 2.a.i.(1);

d. Revising entry 3.a and adding item 3.b;

e. Revising entry 6.a.i.(1); and

f. Revising entry 12.a.i.(2) to read as follows:

Table 3 to Subpart UUUU of Part 63.—Initial Compliance With Emission Limits and Work Practice Standards
[As required in §§ 63.5530(a) and 63.5535(g) and (h), you must demonstrate initial compliance with the appropriate emission limits and work practice standards according to the requirements in the following table]
For . . . | At . . . | For the following emission limit or work practice standard . . . | You have demonstrated initial compliance if . . .
1. the sum of all viscose process vents | a. each existing cellulose food casing operation | i. reduce total uncontrolled sulfide emissions (reported as carbon disulfide) by at least 25% based on a 6-month rolling average; | (1) the average uncontrolled total sulfide emissions, determined during the month-long compliance demonstration or using engineering assessments, are reduced by at least 25%; (2) you have a record of the range of operating parameter values over the month-long compliance demonstration during which the average uncontrolled total sulfide emissions were reduced by at least 25%;
* * * * * * *
| b. each new cellulose food casing operation | i. reduce total uncontrolled sulfide emissions (reported as carbon disulfide) by at least 75% based on a 6-month rolling average; | (1) the average uncontrolled total sulfide emissions, determined during the month-long compliance demonstration or using engineering assessments, are reduced by at least 75%; (2) you have a record of the range of operating parameter values over the month-long compliance demonstration during which the average uncontrolled total sulfide emissions were reduced by at least 75%;
* * * * * * *
| c. each existing rayon operation | i. reduce total uncontrolled sulfide emissions (reported as carbon disulfide) by at least 35% within 3 years after the effective date based on a 6-month rolling average; for each vent stream that you control using a control device, route the vent stream through a closed-vent system to the control device; and comply with the work practice standard for closed-vent systems; and | (1) the average uncontrolled total sulfide emissions, determined during the month-long compliance demonstration or using engineering assessments, are reduced by at least 35% within 3 years after the effective date;
* * * * * * *
|  | ii. reduce total uncontrolled sulfide emissions (reported as carbon disulfide) by at least 40% within 8 years after the effective date based on a 6-month rolling average; for each vent stream that you control using a control device, route the vent stream through a closed-vent system to the control device; and comply with the work practice standard for closed-vent systems | (1) the average uncontrolled total sulfide emissions, determined during the month-long compliance demonstration or using engineering assessments, are reduced by at least 40% within 8 years after the effective date;
* * * * * * *
| d. each new rayon operation | i. reduce total uncontrolled sulfide emissions (reported as carbon disulfide) by at least 75%; based on a 6-month rolling average; | (1) the average uncontrolled total sulfide emissions, determined during the month-long compliance demonstration or using engineering assessments, are reduced by at least 75%;
* * * * * * *
| e. each existing or new cellulosic sponge operation | i. reduce total uncontrolled sulfide emissions (reported as carbon disulfide) by at least 75% based on a 6-month rolling average; | (1) the average uncontrolled total sulfide emissions, determined during the month-long compliance demonstration or using engineering assessments, are reduced by at least 75%;
* * * * * * *
| f. each existing or new cellophane operation | i. reduce total uncontrolled sulfide emissions (reported as carbon disulfide) by at least 75% based on a 6-month rolling average; ii. for each vent stream that you control using a control device (except for retractable hoods over sulfuric acid baths at a cellophane operation), route the vent stream through a closed-vent system to the control device; and iii. comply with the work practice standard for closed-vent systems (except for retractable hoods over sulfuric acid baths at a cellophane operation) | (1) the average uncontrolled total sulfide emissions, determined during the month-long compliance demonstration or using engineering assessments, are reduced by at least 75%;
* * * * * * *
2. the sum of all solvent coating process vents | a. each existing or new cellophane operation | i. reduce uncontrolled toluene emissions by at least 95% based on a 6-month rolling average; | (1) the average uncontrolled toluene emissions, determined during the month-long compliance demonstration or using engineering assessments, are reduced by at least 95%;
* * * * * * *
3. the sum of all cellulose ether process vents | a. each existing or new cellulose ether operation using a performance test to demonstrate initial compliance; or | i. reduce total uncontrolled organic HAP emissions by at least 99%; ii. for each vent stream that you control using a control device, route the vent stream through a closed-vent system to the control device; and iii. comply with the work practice standard for closed-vent systems; or | (1) average uncontrolled total organic HAP emissions, measured during the performance test or determined using engineering estimates are reduced by at least 99%; (2) you have a record of the average operating parameter values over the performance test during which the average uncontrolled total organic HAP emissions were reduced by at least 99%; and (3) you comply with the initial compliance requirements for closed-vent systems; or
| b. each existing or new cellulose ether operation using a material balance compliance demonstration to demonstrate initial compliance | i. reduce total uncontrolled organic HAP emissions by at least 99% based on a 6-month rolling average; ii. for each vent stream that you control using a control device, route the vent stream through a closed-vent system the control device; and iii. comply with the work practice standard for closed-vent systems | (1) average uncontrolled total organic HAP emissions, determined during the month-long compliance demonstration or using engineering estimates are reduced by at least 99%; (2) you have a record of the average operation parameter values over the month-long compliance demonstration during which the average uncontrolled total organic HAP emissions were reduced by at least 99%; (3) you prepare a material balance that includes the pertinent data used to determine the percent reduction of total organic HAP emissions; (4) if you use extended cookout to comply, you measure the HAP charged to the reactor, record the grade of product produced, and then calculate reactor emissions prior to extended cookout by taking a percentage of the total HAP charged.
* * * * * * *
6. each toluene storage vessel | a. each existing or new cellophane operation | i. reduce uncontrolled toluene emissions by at least 95% based on a 6-month rolling average; | (1) the average uncontrolled toluene emissions, determined during the month-long compliance demonstration or using engineering assessments, are reduced by at least 95%;
* * * * * * *
12. heat exchanger system that cools process equipment or materials in the process unit | a. each existing or new affected source | i. monitor and repair the heat exchanger system according to § 63.104(a) through (e), except that reference to “chemical manufacturing process unit” mean “cellulose food casing, rayon, cellulosic sponge, cellophane, or cellulose either process unit” for the purposes of this subpart | * * * (2) if your heat exchanger system is not exempt, you identify in your Notification of Compliance Status Report the HAP or other representative substance that you will monitor, or you prepare and maintain a site-specific plan containing the information required by § 63.104(c) (1) (i) through (iv) that documents the procedures you will use to detect leaks by monitoring surrogate indicators of the leak.

10. Table 4 is amended by revising the introductory statement and entries 3 and 4.a.i.(2)(b) to read as follows:

Table 4 to Subpart UUUU of Part 63.—Requirements for Performance Tests
[As required in §§ 63.5530(b) and 63.5535(a), (b), (g)(1), and (h)(1), you must conduct performance tests, other initial compliance demonstrations, and CEMS performance evaluations and establish operating limits according to the requirements in the following table]
For . . . | At . . . | You must . . . | Using . . . | According to the following requirements . . .
* * * * * * *
3. the sum of all solvent coating process vents | a. each existing or new cellophane operation | i. measure toluene emissions | (1) EPA Method 18 in appendix A to part 60 of this chapter; or | (a) you must conduct testing of emissions at the inlet and outlet of each control device; (b) you may use EPA Method 18 to determine the control efficiency of any control device for organic compounds; for a combustion device, you must use only HAP that are present in the inlet to the control device to characterize the percent reduction across the combustion device;
|  |  |  | (c) you must conduct testing of emissions from continuous solvent coating process vents and combinations of batch and continuous solvent coating process vents at normal operating conditions, as specified in §§ 63.7(e)(1) and 63.5535;
|  |  |  | (d) you must conduct testing of emissions from batch solvent coating process vents as specified in § 63.490(c), except that the emission reductions required for process vents under this subpart supersede the emission reductions required for process vents under subpart U of this part; and
|  |  |  | (e) you must collect CPMS data during the period of the initial compliance demonstration and determine the CPMS operating limit during the initial compliance demonstration; or
* * * * * * *
4. the sum of all cellulose either process vents | a. each existing or new cellulose either operation | i. measure total organic HAP emissions | * * * (2) ASTM D6420-99 | * * * (b) you may use ASTM D6420-99 (available for purchase from at least one of the following addresses: 100 Barr Harbor Drive, West Conshohocken, PA 19428-2959; or University Microfilms International, 300 North Zeeb Road, Ann Arbor, MI 48106) as an alternative to EPA Method 18 only where: the target compound(s) are those listed in Section 1.1 of ASTM D6420-99; and the target concentration is between 150 ppbv and 100 ppmv; for target compound(s) not listed in Section 1.1 of ASTM D6420-99, but potentially detected by mass spectrometry, the additional system continuing calibration check after each run, as detailed in Section 10.5.3 of the ASTM method, must be followed, met, documented, and submitted with the data report even if there is no moisture condenser used or the compound is not considered water soluble; and for target compound(s) not listed in Section 1.1 of ASTM D6420-99 and not amenable to detection by mass spectrometry, ASTM D6420-99 does not apply; target concentration is between 150 ppbv and 100 ppmv; for target compound(s).
* * * * * * *

11. Table 5 is amended by:

a. Revising entries 1.a. ii. and iii;

b. Revising entry 3.a and adding entry 3.b;

c. Revising entries 5.a. i, ii, and iv; and

d. Revising entry 8 to read as follows:

Table 5 to Subpart UUUU of Part 63—Continuous Compliance With Emission Limits and Work Practice Standards
* * * * * * *
For . . . | At . . . | For the following emission limit or work practice standard . . . | You must demonstrate continuous compliance by . . .
1. the sum of all viscose process vents | a. each existing or new viscose process affected source | * * * ii. for each vent stream that you control using a control device (except for retractable hoods over sulfuric acid baths at a cellophane operation), route the vent stream through a closed-vent system to the control device; and iii. comply with the work practice standard for closed-vent systems (except for retractable hoods over sulfuric acid baths at a cellophane operation) | * * *
* * * * * * *
3. the sum of all cellulose either process vents | a. each existing or new cellulose ether operation using a performance test to demonstrate initial compliance; or | i. reduce total uncontrolled organic HAP emissions by at least 99%; ii. for each vent stream that you control using a control device, route the vent stream through a closed-vent system to the control device; and, iii. comply with the work practice standard for closed-vent systems; or | (1) complying with the continuous compliance requirements for closed-vent systems; or
| b. each existing or new cellulose ether operation using a material balance compliance demonstration to demonstrate initial compliance | i. reduce total uncontrolled organic HAP emissions by at least 99% based on a 6-month rolling average; ii. for each vent stream that you control using a control device, route the vent stream through a closed-vent system to control device; and iii. comply with the work practice standard for closed-vent systems | (1) maintaining a material balance that includes the pertinent data used to determine the percent reduction of total organic HAP emissions; (2) documenting the percent reduction of total organic HAP emissions using the pertinent data from the material balance; (3) if using extended cookout to comply, monitoring reactor charges and keeping records to show that extended cookout was employed; (4) complying with the continuous compliance requirements for closed-vent systems.
* * * * * * *
5. each carbon disulfide unloading and storage operation | a. each existingor new viscose process affected source | i. reduce uncontrolled carbon disulfide emissions by at least 83% based on a 6-month rolling average if you use an alternative control technique not listed in this table for carbon disulfide unloading and stroage operations; if using a control device to reduce emissions, route emissions through a closed-vent system to the control device; and comply with the work practice standard for closed-vent systems; | (1) keeping a record documenting the 83% reduction in carbon disulfide emissions; and (2) if venting to a control device to reduce emissions, complying with the continuous compliance requirements for closed-vent systems;
|  | ii. reduce total uncontrolled sulfide emissions by at least 0.14% from viscose process vents based on a 6-month rolling average; for each vent stream that you control using a control device, route the vent stream through a closed-vent system to the control device; and comply with the work practice standard for closed-vent systems; | (1) maintaining a material balance that includes the pertinent data used to determine the percent reduction of total sulfide emissions; (2) documenting the percent reduction of total sulfide emissions using the pertinent data from the material balance; and (3) complying with the continuous compliance requirements for closed-vent systems;
* * * * * * *
|  | iv. install a nitrogen unloading system; reduce total uncontrolled sulfide emissions by at least 0.045% from viscose process vents based on a 6-month rolling average; for each vent stream that you control using a control device, route the vent stream through a closed-vent system to the control device; and comply with the work practice standard for closed-vent systems | (1) keeping a record certifying that a nitrogen unloading system is in use; (2) maintaining a material balance that includes the pertinent data used to determine the percent reduction of total sulfide emissions; (3) documenting the percent reduction of total sulfide emissions using the pertinent data from the material balance; and (4) complying with the continuous compliance requirements for closed-vent systems.
* * * * * * *
8. all sources of wastewater emissions | each existing or new cellulose either operation | applicable wastewater provisions of § 63.105 and §§ 63.132 through 63.140. | complying with the applicable wastewater continuous compliance provisions of §§ 63.105, 63.143, and 63.148.
* * * * * * *

12. Table 6 is amended by revising entries 3 and 4 to read as follows:

Table 6 to Subpart UUUU of Part 63.—Continuous Compliance With Operating Limits
* * * * * * *
For the following control technique . . . | For the following operating limit . . . | You must demonstrate continuous compliance by . . .
| * * * * * * *
3. water scrubber | maintain the daily average scrubber pressure drop and scrubber liquid flow rate within the range of values established during the compliance demonstration | collecting the scrubber pressure drop and scrubber liquid flow rate data according to § 63.5545; reducing the scrubber parameter data to daily averages; and maintaining the daily scrubber parameter values within the range of values established during the compliance demonstration.
4. caustic scrubber | maintain the daily average scrubber pressure drop, scrubber liquid flow rate, and scrubber liquid pH, conductivity, or alkalinity within the range of values established during the compliance demonstration | collecting the scrubber pressure drop, scrubber liquid flow rate, and scrubber liquid pH, conductivity, or alkalinity data according to § 63.5545; reducing the scrubber parameter data to daily averages; and maintaining the daily scrubber parameter values within the range of values established during the compliance demonstration.
* * * * * * *

[FR Doc. 05-15733 Filed 8-9-05; 8:45 am]

BILLING CODE 6560-50-P